DEPARTMENT OF COMMERCE

Patent and Trademark Office

Applications for Trademark Registration

ACTION: Proposed collection; comment request.

SUMMARY: The United States Patent and Trademark Office (USPTO), as part of its continuing effort to reduce paperwork and respondent burden, invites the general public and other Federal agencies to take this opportunity to comment on the extension of a continuing information collection, as required by the Paperwork Reduction Act of 1995, Public Law 104-13 (44 U.S.C. 3506(c)(2)(A)).

DATES: Written comments must be submitted on or before May 12, 2008.

ADDRESSES: You may submit comments by any of the following methods:

E-mail: Susan.Fawcett@uspto.gov. Include “0651-0009 comment” in the subject line of the message.

Fax: 571-273-0112, marked to the attention of Susan K. Fawcett.

Mail: Susan K. Fawcett, Records Officer, Office of the Chief Information Officer, Customer Information Services Group, Public Information Services Division, U.S. Patent and Trademark Office, P.O. Box 1450, Alexandria, VA 22313-1450.

Federal e-Rulemaking Portal: http://www.regulations.gov.

FOR FURTHER INFORMATION CONTACT: Requests for additional information should be directed to the attention of Janis Long, Attorney Advisor, Office of the Commissioner for Trademarks, United States Patent and Trademark Office, P.O. Box 1450, Alexandria, VA 22313-1450; by telephone at 571-272-9573; or by e-mail at janis.long@uspto.gov.

SUPPLEMENTARY INFORMATION:

I. Abstract

The United States Patent and Trademark Office (USPTO) administers the Trademark Act, 15 U.S.C. 1051 et seq., which provides for the Federal registration of trademarks, service marks, collective trademarks and service marks, collective membership marks, and certification marks. Individuals and businesses who use their marks, or intend to use their marks, in commerce regulable by Congress, may file an application with the USPTO to register their marks. Registered marks remain on the register indefinitely so long as the owner of the registration files the necessary maintenance documents.

The rules implementing the Trademark Act are set forth in 37 CFR Part 2. The Act and rules mandate that each certificate of registration include the mark, the particular goods and/or services for which the mark is registered, the owner's name, dates of use of the mark in commerce, and certain other information. The USPTO also provides similar information to the public concerning pending applications. Individuals or businesses may access the register and pending application information through the USPTO's website to determine availability of a mark. Accessing and reviewing the USPTO's publicly available information may reduce the possibility of initiating use of a mark previously registered or adopted by another. The Federal trademark registration process may lessen the filing of papers in court and between parties. The information in this collection is available to the public.

Trademarks can be registered on either the Principal or Supplemental Registers. Registrations on the Principal Register confer all of the benefits of registration provided under the Trademark Act. The Supplemental Register is for descriptive marks capable of functioning as a trademark that cannot be registered on the Principal Register. Registrations on the Supplemental Register do not have all of the benefits of marks on the Principal Register. Registrations on the Supplemental Register cannot be transferred to the Principal Register, but owners of registrations on the Supplemental Register may apply for registration of their marks on the Principal Register.

The information in this collection can be submitted in paper format or electronically through the Trademark Electronic Application System (TEAS). Applicants that file their applications through TEAS Plus must agree to provide a complete application at filing and pay a reduced filing fee. TEAS Plus applications are only available for the trademark/service mark applications. There are no TEAS Plus application forms available for the certification marks, collective marks, collective membership marks, and applications for registration on the supplemental register at this time. This collection contains four paper forms and five electronic forms.

II. Method of Collection

Electronically if applicants submit the information using the TEAS forms. By mail or hand delivery if applicants choose to submit the information in paper form.

III. Data

OMB Number: 0651-0009.

Form Number(s): PTO Forms 4.8, 4.9, 1478, and 1478(a).

Type of Review: Extension of a currently approved collection.

Affected Public: Primarily business or other for-profit organizations.

Estimated Number of Respondents: 291,859 responses per year.

Estimated Time per Response: The USPTO estimates that it takes the public approximately 15 minutes (0.25 hours) to 23 minutes (0.38 hours) to complete this information, depending on the application. This includes the time to gather the necessary information, prepare the applications, and submit the completed request to the USPTO. The time estimates shown for the electronic forms in this collection are based on the average amount of time needed to complete and electronically file the associated form.

Estimated Total Annual Respondent Burden Hours: 84,821 hours.

Estimated Total Annual Respondent Cost Burden: $25,785,584. The USPTO believes that associate attorneys will complete these applications. The professional hourly rate for associate attorneys in private firms is $304. Using this hourly rate, the USPTO estimates that the total respondent cost burden for this collection is $25,785,584 per year.

Item | Estimated time for response (in minutes) | Estimated annual responses | Estimated annual burden hours
Use-Based Trademark/Service Mark Application, including | 23 | 5,889 | 2,238
• Trademark/Service Mark Application
• Collective Trademark/Service Mark Application
• Collective Membership Mark
• Certification Mark Application
TEAS Use-Based Trademark/Service Mark Application, including | 21 | 58,378 | 20,432
• Trademark/Service Mark Application
• Collective Trademark/Service Mark Application
• Collective Membership Mark
• Certification Mark Application
TEAS Plus Use-Based Trademark/Service Mark Application | 21 | 37,260 | 13,041
Intent to Use Trademark/Service Mark Application, including | 17 | 5,466 | 1,530
• Trademark/Service Mark Application
• Collective Trademark/Service Mark Application
• Collective Membership Mark
• Certification Mark Application
TEAS Intent to Use Trademark/Service Mark Application, including | 15 | 117,014 | 29,254
• Trademark/Service Mark Application
• Collective Trademark/Service Mark Application
• Collective Membership Mark
• Certification Mark Application
TEAS Plus Intent to Use Trademark/Service Mark Application | 15 | 48,514 | 12,129
Application for Registration of Trademark/Service Mark under §§ 44(d) and (e), including | 20 | 812 | 268
• Trademark/Service Mark Application
• Collective Trademark/Service Mark Application
• Collective Membership Mark
• Certification Mark Application
TEAS Application for Registration of Trademark/Service Mark under §§ 44(d) and (e), including | 19 | 12,396 | 3,967
• Trademark/Service Mark Application
• Collective Trademark/Service Mark Application
• Collective Membership Mark
• Certification Mark Application
TEAS Plus Application for Registration of Trademark/Service Mark under §§ 44(d) and (e) | 19 | 6,130 | 1,962
Total |  | 291,859 | 84,821

Estimated Total Annual Non-hour Respondent Cost Burden: $91,050,313. There are postage costs and filing and processing fees associated with this information collection. This collection does not have any capital start-up, operation, maintenance, or recordkeeping costs.

Applicants incur postage costs when submitting the non-electronic information to the USPTO by mail through the United States Postal Service. The USPTO estimates that the majority (98%) of the paper forms are submitted to the USPTO via first class mail. Out of 12,167 paper forms, the USPTO estimates that 11,924 forms will be mailed, with a first class postage cost of 41 cents. Therefore, the USPTO estimates that the postage costs for this collection will be $4,888.

Item | Responses (yr) | Postage costs | Total cost (yr)
| (a) | (b) | (a) × (b)
Use-Based Trademark/Service Mark Application, including | 5,771 | $0.41 | $2,366.00
• Trademark/Service Mark Application
• Collective Trademark/Service Mark Application
• Collective Membership Mark
• Certification Mark Application
Intent to Use Trademark/Service Mark Application, including | 5,357 | 0.41 | 2,196.00
• Trademark/Service Mark Application
• Collective Trademark/Service Mark Application
• Collective Membership Mark
• Certification Mark Application
Application for Registration of Trademark/Service Mark under §§ 44(d) and (e), including | 796 | 0.41 | 326.00
• Trademark/Service Mark Application
• Collective Trademark/Service Mark Application
• Collective Membership Mark
• Certification Mark Application
Total | 11,924 |  | 4,888.00

There is also annual nonhour cost burden in the way of filing fees associated with this collection. Applicants who choose to file their applications electronically instead of submitting them in paper pay a reduced filing fee. Those who choose to file TEAS Plus applications pay a further reduced fee. The filing fees for the applications are based per class of goods and services; therefore the total filing fees can vary depending on the number of classes. The total filing fees of $90,867,325 shown here are the minimum fees associated with this information collection.

Item | Responses (yr) | Filing fees | Total non-hour cost burden (yr)
| (a) | (b) | (a) × (b)
Use-Based Trademark/Service Mark Application, including | 5,889 | $375.00 | $2,208,375.00
• Trademark/Service Mark Application
• Collective Trademark/Service Mark Application
• Collective Membership Mark
• Certification Mark Application
TEAS Use-Based Trademark/Service Mark Application, including | 58,378 | 325.00 | 18,972,850.00
• Trademark/Service Mark Application
• Collective Trademark/Service Mark Application
• Collective Membership Mark
• Certification Mark Application
TEAS Plus Use-Based Trademark/ Service Mark Application | 37,260 | 275.00 | 10,246,500.00
Intent to Use Trademark/Service Mark Application, including | 5,466 | 375.00 | 2,049,750.00
• Trademark/Service Mark Application
• Collective Trademark/Service Mark Application
• Collective Membership Mark
• Certification Mark Application
TEAS Intent to Use Trademark/Service Mark Application, including | 117,014 | 325.00 | 38,029,550.00
• Trademark/Service Mark Application
• Collective Trademark/Service Mark Application
• Collective Membership Mark
• Certification Mark Application
TEAS Plus Intent to Use Trademark/ Service Mark Application | 48,514 | 275.00 | 13,341,350.00
Application for Registration of Trademark/Service Mark under §§ 44(d) and (e), including | 812 | 375.00 | 304,500.00
• Trademark/Service Mark Application
• Collective Trademark/Service Mark Application
• Collective Membership Mark
• Certification Mark Application
TEAS Application for Registration of Trademark/Service Mark under §§ 44(d) and (e), including | 12,396 | 325.00 | 4,028,700.00
• Trademark/Service Mark Application
• Collective Trademark/Service Mark Application
• Collective Membership Mark
• Certification Mark Application
TEAS Plus Application for Registration of Trademark/Service Mark under §§ 44(d) and (e) | 6,130 | 275.00 | 1,685,750.00
Totals | 291,859 |  | 90,867,325.00

In addition, the USPTO charges a processing fee of $50 to process applications that were originally filed as TEAS Plus applications, but which failed to meet the requirements. The USPTO estimates that out of the 91,904 TEAS Plus use-based, intent to use, and 44(d) and (e) applications filed, 3,562 will be subject to the processing fee. The processing fees are based per class of goods and services, so the total processing fee can vary depending on the number of classes. The total processing fees shown here are the minimum fees associated with this information collection. Therefore, the USPTO estimates that at a minimum, the processing fees will add $178,100 to the filing fees estimated above.

Item | Responses (yr) | Processing fee (yr) | Total non-hour cost burden (yr)
| (a) | (b) | (a) × (b)(c)
TEAS Plus Use-Based Applications That Do Not Meet TEAS Plus Requirements | 1,880 | $50.00 | $94,000.00
TEAS Plus Intent-to-Use Applications That Do Not Meet TEAS Plus Requirements | 1,444 | 50.00 | 72,200.00
TEAS Plus Applications for Registrations of a Trademark/Service Mark under 44(d) and (e) That Do Not Meet TEAS Plus Requirements | 238 | 50.00 | 11,900.00
Total | 3,562 |  | 178,100.00

The USPTO estimates that the total nonhour cost burden associated with the filing and processing fees for this collection will be $91,045,425.

The USPTO estimates that the total non-hour respondent cost burden for this collection, in the form of postage costs and filing and processing fees is $91,050,313 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: March 5, 2008.
Susan K. Fawcett,
Records Officer, USPTO, Office of the Chief Information Officer, Customer Information Services Group, Public Information Services Division.

[FR Doc. E8-4933 Filed 3-11-08; 8:45 am]

BILLING CODE 3510-16-P